DEPARTMENT OF COMMERCE

U.S. Census Bureau

Proposed Information Collection; Comment Request; 2018 National Sample Survey of Registered Nurses

AGENCY: U.S. Census Bureau, Commerce.

ACTION: Notice.

SUMMARY: The Department of Commerce, as part of its continuing effort to reduce paperwork and respondent burden, invites the general public and other Federal agencies to take this opportunity to comment on the proposed 2018 National Sample Survey of Registered Nurses, as required by the Paperwork Reduction Act of 1995.

DATES: To ensure consideration, written comments must be submitted on or before August 25, 2017.

ADDRESSES: Direct all written comments to Jennifer Jessup, Departmental Paperwork Clearance Officer, Department of Commerce, Room 6616, 14th and Constitution Avenue NW., Washington, DC 20230 (or via the Internet at PRAcomments@doc.gov).

FOR FURTHER INFORMATION CONTACT: Requests for additional information or copies of the information collection instrument(s) and instructions should be directed to Daniel Doyle, U.S. Census Bureau, ADDP, HQ-7H051, 4600 Silver Hill Road, Washington, DC 20233-0001, (301) 763-5304 (or via the Internet at Daniel.P.Doyle@census.gov).

SUPPLEMENTARY INFORMATION:

I. Abstract

Sponsored by the U.S. Department of Health and Human Services' (HHS') Health Resources Services Administration's (HRSA) National Center for Health Workforce Analysis (NCHWA), the National Sample Survey of Registered Nurses (NSSRN) is conducted to assist in fulfilling the Congressional mandates of the Public Health Service Act 42 U.S.C. Section 294n(b)(2)(A), foster the development of information describing and analyzing the health care workforce and workforce related issues and provide necessary information for decision-making regarding future directions in health professions and nursing programs in response to societal and professional needs. In addition, Public Health Service Act 42 U.S.C. Section 295k(a)-(b), the Secretary shall establish a program, including a uniform health professions data reporting system, to collect, compile, and analyze data on health professions personnel. The Secretary is authorized to expand the program to include, whenever he determines it necessary, the collection, compilation, and analysis of data, health care administration personnel, nurses, allied health personnel in States designated by the Secretary to be included in the program. The NSSRN is designed to obtain the necessary data to determine the characteristics and distribution of Registered Nurses (RNs) throughout the United States, as well as emerging patterns in their employment characteristics. These data will provide the means for the evaluation and assessment of the evolving demographics, educational qualifications, and career employment patterns of RNs, consistent with the goals of congressional mandates of the Public Health Service Act 42 U.S.C. Section 294n(b)(2)(A) and Section 295k(a)-(b). Such data have become particularly important for the need to better understand workforce issues given the recent dynamic change in the RN population and, the transformation of the healthcare system.

The proposed survey design for the 2018 NSSRN will include a probability sample (100,000 RNs) selected from a sampling frame compiled from files provided by the State Boards of Nursing and the National Council of the State Boards of Nursing (NCSBN). These files constitute a sampling frame of all RNs licensed in the 50 States and the District of Columbia. Sampling rates are set for each state based on considerations of statistical precision of the estimates and the costs involved in obtaining reliable national and state-level estimates. The survey will be multi-mode offering respondents the opportunity to participate via a web instrument and a paper questionnaire.

The 2018 NSSRN project includes plans to experimentally test the efficacy of a non-monetary incentive (that is, whether offering a pen and lanyard as a token of appreciation increases response, thus reducing non-response bias and reducing costs associated with follow-up). Additionally, the project will test contact materials, and test modifications to data collection strategies based on response from prior contact strategies.

In addition to testing non-monetary incentives, the 2018 NSSRN will evaluate different non-response follow-up mailing strategies by testing for response improvements using different envelopes to deliver the survey materials. One of these strategies utilizes testing a pressure-sealed reminder postcard scheduled to be mailed approximately one week after the initial survey invite mailing. This strategy is being implemented to decrease the time gap during mailings and is more cost-effective than sending an additional paper questionnaire packet. The ability to send reminders enclosed with the pressure-seal system allows for the secure delivery of login information for the NSSRN web instrument as well as specific information about the survey.

Third, we plan to experimentally evaluate the impact of adding a supplemental fact sheet with important statistics from prior NSSRN administrations. During the initial mailing, inserts with important NSSRN facts will be tested.

Finally, for respondents who experience technical problems with the web instrument, have questions about the survey, or need other forms of assistance, the 2018 NSSRN will have a Telephone Questionnaire Assistance (TQA) line available. TQA staff will not only be able to answer respondent questions and concerns, but also they will have the ability to collect survey responses over the phone, using an administrative access to the web instrument, if the respondent calls in and would like to have interviewer assistance in completing the interview.

II. Methods of Collection

Web-Push

The production 2018 NSSRN plan for the web-push data collection design includes 80% of the 100,000 RNs receiving an initial invite with instructions on how to complete the questionnaire via the web. The web-push production sample of 80,000 is broken out into two non-monetary incentive groups: The majority, 70,000 RNs, will receive a lanyard and pen; a small group, 10,000 RNs, will receive no incentive so that the effectiveness of the non-monetary incentive can be evaluated. No additional incentives are planned for subsequent follow-up reminders or paper questionnaire mailings.

Mixed-Mode

The remaining 20% of the sampled RNs will be mailed an initial invite with instructions on how to complete the questionnaire via the web, in addition to a paper questionnaire in the packet. This group of 20,000 RNs is broken out so that 10,000 receive a lanyard and pen, and a smaller group, 10,000 RNs, receive no incentive so that the effectiveness of the non-monetary incentive can be evaluated.

III. Data

OMB Control Number: 0607-####.

Form Number: NSSRN.

Type of Review: Regular submission.

Affected Public: Nurses, researchers, and policymakers.

Estimated Number of Respondents: 65,000.

Estimated Time per Response: 25 minutes per response.

Estimated Total Annual Burden Hours: 27,083 hours.

Estimated Total Annual Cost to Public: $0.

Respondent's Obligation: Voluntary.

Legal Authority: Census Authority: 13 U.S.C. Section 8(b).

HRSA Authority: Public Service Act 42 U.S.C. Section 294n(b)(2)(A) and 42 U.S.C. Section 295k(a)-(b).

Confidentiality: The data collected under this agreement are confidential under 13 U.S.C. Section 9. All access to Title 13 data from this survey is restricted to those holding Census Bureau Special Sworn Status pursuant to 13 U.S.C. Section 23(c).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental PRA Lead, Office of the Chief Information Officer.

[FR Doc. 2017-13293 Filed 6-23-17; 8:45 am]

BILLING CODE 3510-07-P